DEPARTMENT OF ENERGY

Federal Energy Regulatory Commission

Combined Notice of Filings

February 3, 2009.

Take notice that the Commission has received the following Natural Gas Pipeline Rate and Refund Report filings:

Docket Numbers: RP96-320-097.

Applicants: Gulf South Pipeline Company, LP.

Description: Gulf South Pipeline Co submits a capacity release agreement containing negotiated rate provisions executed with Texla Energy Management, Inc.

Filed Date: 01/29/2009.

Accession Number: 20090202-0478.

Comment Date: 5 p.m. Eastern Time on Tuesday, February 10, 2009.

Docket Numbers: RP96-320-098.

Applicants: Gulf South Pipeline Company, LP.

Description: Gulf South Pipeline Company submits Amendment to Negotiated Rate Letter Agreement re the East Texas to Mississippi Expansion Project.

Filed Date: 01/30/2009.

Accession Number: 20090203-0015.

Comment Date: 5 p.m. Eastern Time on Wednesday, February 11, 2009.

Docket Numbers: RP99-176-180.

Applicants: Natural Gas Pipeline Company of America.

Description: Natural Gas Pipeline Company of America, LLC submits an amendment to an existing negotiated rate Transportation Rate Schedule FTS Agreement with Tenaska Marketing Ventures.

Filed Date: 01/29/2009.

Accession Number: 20090202-0476.

Comment Date: 5 p.m. Eastern Time on Tuesday, February 10, 2009.

Docket Numbers: RP99-176-181.

Applicants: Natural Gas Pipeline Company of America.

Description: Natural Gas Pipeline Company of America, LLC submits the Storage Rate Schedule NSS Agreements etc.

Filed Date: 01/29/2009.

Accession Number: 20090202-0477.

Comment Date: 5 p.m. Eastern Time on Tuesday, February 10, 2009.

Docket Numbers: RP99-176-182.

Applicants: Natural Gas Pipeline Company of America.

Description: Natural Gas Pipeline Company of America, LLC submits amendments to the Transportation Rate Schedule FTS Agreement with Eagle Energy Partners I, LP.

Filed Date: 01/29/2009.

Accession Number: 20090202-0479.

Comment Date: 5 p.m. Eastern Time on Tuesday, February 10, 2009.

Docket Numbers: RP04-274-014.

Applicants: Kern River Gas Transmission Company.

Description: Kern River Gas Transmission Company submits 2nd Substitute 6th Revised 18th Revised Sheet 5 et al. to FERC Gas Tariff, Second Revised Volume 1.

Filed Date: 01/30/2009.

Accession Number: 20090203-0013.

Comment Date: 5 p.m. Eastern Time on Wednesday, February 11, 2009.

Docket Numbers: RP06-298-008.

Applicants: Public Service Commission of New York.

Description: National Fuel Gas Supply Corp. submits its Semi-annual Report of Operational Sales of Gas.

Filed Date: 01/30/2009.

Accession Number: 20090130-5046.

Comment Date: 5 p.m. Eastern Time on Wednesday, February 11, 2009.

Docket Numbers: RP09-42-001.

Applicants: Hardy Storage Company, LLC.

Description: Hardy Storage Company submits tariff sheets for inclusion in its tariff, proposed to be effective 3/1/09.

Filed Date: 01/30/2009.

Accession Number: 20090203-0014.

Comment Date: 5 p.m. Eastern Time on Wednesday, February 11, 2009.

Docket Numbers: RP96-272-087.

Applicants: Northern Natural Gas Company.

Description: Northern Natural Gas Co submits 15 Revised Sheet 66B.01 et al. to FERC Gas Tariff, Fifth Revised Volume 1, to be effective 2/1/09.

Filed Date: 01/30/2009.

Accession Number: 20090203-0035.

Comment Date: 5 p.m. Eastern Time on Wednesday, February 11, 2009.

Docket Numbers: RP09-309-000.

Applicants: Natural Gas Pipeline Company of America.

Description: Natural Gas Pipeline Company of America, LLC submits First Revised Sheet 27 et al. to FERC Gas Tariff, Seventh Revised Volume 1.

Filed Date: 01/29/2009.

Accession Number: 20090130-0126.

Comment Date: 5 p.m. Eastern Time on Tuesday, February 10, 2009.

Docket Numbers: RP09-310-000.

Applicants: Gulf Crossing Pipeline Company, LLC.

Description: Gulf South Pipeline Company, LLC submits a negotiated rate agreement under Rate Schedule FTS executed.

Filed Date: 01/29/2009.

Accession Number: 20090130-0127.

Comment Date: 5 p.m. Eastern Time on Tuesday, February 10, 2009.

Docket Numbers: RP09-311-000.

Applicants: Northern Border Pipeline Company.

Description: Northern Border Pipeline Company submits First Revised Sheet 272B et al. to FERC Gas Tariff, First Revised Volume 1, to be effective 3/3/09.

Filed Date: 01/29/2009.

Accession Number: 20090202-0544.

Comment Date: 5 p.m. Eastern Time on Tuesday, February 10, 2009.

Docket Numbers: RP09-312-000.

Applicants: Millennium Pipeline Company, LLC.

Description: Millennium Pipeline Company, LLC submits First Revised Sheet 6 to FERC Gas Tariff, Original Volume 1, to be effective 2/1/09.

Filed Date: 01/29/2009.

Accession Number: 20090202-0545.

Comment Date: 5 p.m. Eastern Time on Tuesday, February 10, 2009.

Docket Numbers: RP09-313-000.

Applicants: Gulf Crossing Pipeline Company LLC.

Description: Gulf Crossing Pipeline Company, LLC submits the Interim Negotiated Rate Agreement re the Gulf Crossing Project.

Filed Date: 01/30/2009.

Accession Number: 20090203-0021.

Comment Date: 5 p.m. Eastern Time on Wednesday, February 11, 2009.

Docket Numbers: RP09-315-000.

Applicants: East Tennessee Natural Gas, LLC.

Description: East Tennessee Natural Gas, LLC submits Fourth Revised Sheet 306 and 373 to its FERC Gas Tariff, Third Revised Volume 1, to be effective 4/1/09.

Filed Date: 01/30/2009.

Accession Number: 20090203-0019.

Comment Date: 5 p.m. Eastern Time on Wednesday, February 11, 2009.

Docket Numbers: RP09-317-000.

Applicants: Texas Gas Transmission, LLC.

Description: Texas Gas Transmission, LLC submits Second Revised Sheet 2200, and First Revised Sheet 3201 to FERC Gas Tariff, Third Revised Volume 1, to be effective 3/1/09.

Filed Date: 01/30/2009.

Accession Number: 20090203-0034.

Comment Date: 5 p.m. Eastern Time on Wednesday, February 11, 2009.

Docket Numbers: RP09-318-000.

Applicants: Northern Natural Gas Company.

Description: Northern Natural Gas Co submits 81 Revised Sheet 53 et al. to FERC Gas Tariff, Fifth Revised Volume 1, to be effective 4/1/09.

Filed Date: 01/30/2009.

Accession Number: 20090203-0033.

Comment Date: 5 p.m. Eastern Time on Wednesday, February 11, 2009.

Docket Numbers: RP09-319-000.

Applicants: Texas Gas Transmission, LLC.

Description: Texas Gas Transmission, LLC submits First Revised Sheet 5225 et al. to FERC Gas Tariff, Third Revised Volume 1, to be effective 3/1/09.

Filed Date: 01/30/2009.

Accession Number: 20090203-0032.

Comment Date: 5 p.m. Eastern Time on Wednesday, February 11, 2009.

Docket Numbers: RP09-320-000.

Applicants: Millennium Pipeline Company, L.L.C.

Description: Millennium Pipeline Co, LLC submits First Revised Sheet 178 et al. to FERC Gas Tariff, Original Volume 1, to be effective 3/1/09.

Filed Date: 01/30/2009.

Accession Number: 20090203-0031.

Comment Date: 5 p.m. Eastern Time on Wednesday, February 11, 2009.

Docket Numbers: RP09-321-000.

Applicants: MarkWest Pioneer, L.L.C.

Description: Markwest Pioneer, LLC submits its FERC Gas Tariff, Original Volume 1 for the Arkoma Connector Pipeline to be effective 4/1/09.

Filed Date: 01/30/2009.

Accession Number: 20090203-0030.

Comment Date: 5 p.m. Eastern Time on Wednesday, February 11, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-2567 Filed 2-5-09; 8:45 am]

BILLING CODE 6717-01-P